DEPARTMENT OF TRANSPORTATION

Federal Aviation Administration

14 CFR Part 39

[Docket No. 2001-NM-77-AD; Amendment 39-13281; AD 2003-17-07]

RIN 2120-AA64

Airworthiness Directives; Various Transport Category Airplanes Manufactured by McDonnell Douglas

AGENCY: Federal Aviation Administration, DOT.

ACTION: Final rule.

SUMMARY: This amendment adopts a new airworthiness directive (AD), applicable to various transport category airplanes manufactured by McDonnell Douglas. This AD requires a one-time test of the fire extinguishers for the engine and auxiliary power unit (APU), as applicable, to determine the capability of the Firex electrical circuits to fire discharge cartridges, and troubleshooting actions if necessary. This action is necessary to prevent failure of the fire extinguishers to fire discharge cartridges, which could result in the inability to put out a fire in an engine or in the APU. This action is intended to address the identified unsafe condition.

DATES: Effective September 24, 2003.

The incorporation by reference of certain publications listed in the regulations is approved by the Director of the Federal Register as of September 24, 2003.

ADDRESSES: The service information referenced in this AD may be obtained from Boeing Commercial Aircraft Group, Long Beach Division, 3855 Lakewood Boulevard, Long Beach, California 90846, Attention: Data and Service Management, Dept. C1-L5A (D800-0024). This information may be examined at the Federal Aviation Administration (FAA), Transport Airplane Directorate, Rules Docket, 1601 Lind Avenue, SW., Renton, Washington; at the FAA, Los Angeles Aircraft Certification Office, 3960 Paramount Boulevard, Lakewood, California; or at the Office of the Federal Register, 800 North Capitol Street, NW., suite 700, Washington, DC.

FOR FURTHER INFORMATION CONTACT: Samuel Lee, Aerospace Engineer, Propulsion Branch, ANM-140L, FAA, Los Angeles Aircraft Certification Office, 3960 Paramount Boulevard, Lakewood, California 90712-4137; telephone (562) 627-5262; fax (562) 627-5210.

SUPPLEMENTARY INFORMATION: A proposal to amend part 39 of the Federal Aviation Regulations (14 CFR part 39) to include an airworthiness directive (AD) that is applicable to various transport category airplanes manufactured by McDonnell Douglas was published in the Federal Register on February 20, 2003 (68 FR 8155). That action proposed to require a one-time test of the fire extinguishers for the engine and auxiliary power unit (APU) to determine the capability of the Firex electrical circuits to fire discharge cartridges, and troubleshooting actions if necessary.

Comments

Interested persons have been afforded an opportunity to participate in the making of this amendment. The FAA has given due consideration to the comments received.

Request for Credit for Actions Accomplished Per Earlier Service Bulletin Revisions

Two commenters request that we revise the proposed AD to give credit for tests accomplished previously per the original issue of McDonnell Douglas Alert Service Bulletin DC9-26A029, dated July 27, 2000; or MD11-26A039, dated July 31, 2000. The proposed AD refers to Revision 01 of those service bulletins as the applicable sources of service information for certain airplanes affected by the proposed AD. The commenters note that the procedures for the test of the electrical circuit are similar in the original issue and Revision 01 of those service bulletins.

We concur and have added a new paragraph (b) to this final rule (and reidentified subsequent paragraphs accordingly) to state that tests and troubleshooting actions accomplished before the effective date of this AD per the original issue of those service bulletins are acceptable for compliance with the corresponding action required by paragraph (a) of this final rule.

Request To Clarify Requirements for Airplanes Without an APU Installed

One commenter requests that we revise the proposed AD to provide for airplanes on which no APU is installed, by changing paragraph (a) of this proposed AD to add the words “if installed” after “APU.” The commenter states that it operates certain airplanes included in the effectivity listing of the related service bulletin that do not have an APU installed. The commenter states that it has informed the airplane manufacturer of this issue, and the airplane manufacturer intends to correct the effectivity of the related service bulletin. However, the commenter is concerned that the AD, as proposed, would require it to test an APU that does not exist on these airplanes. The commenter requests that we revise the proposed AD to ensure that it is able to comply with the requirements of the AD.

We concur with the intent of the commenter's request. We have revised paragraph (a) of this final rule to read, “Test the capability of the electrical circuits of the Firex fire extinguishers for the engine and the APU, as applicable.” We have made a similar change to the Summary section of this final rule. We have also revised paragraph (a)(1) of this AD to clarify that the actions in that paragraph apply to “any airplane equipped with an APU,” and we have revised paragraph (a)(2) of this final rule to clarify that the actions in that paragraph apply to “all airplanes.”

Explanation of Additional Change to Final Rule

We have revised the applicability section of this final rule to identify the table in that section as “Table 1—Applicability.” We have made a corresponding change to paragraph (a) of this final rule.

Conclusion

After careful review of the available data, including the comments noted above, the FAA has determined that air safety and the public interest require the adoption of the rule with the changes previously described. The FAA has determined that these changes will neither increase the economic burden on any operator nor increase the scope of the AD.

Changes to 14 CFR Part 39/Effect on the AD

On July 10, 2002, the FAA issued a new version of 14 CFR part 39 (67 FR 47997, July 22, 2002), which governs the FAA's airworthiness directives system. The regulation now includes material that relates to altered products, special flight permits, and alternative methods of compliance. However, for clarity and consistency in this final rule, we have retained the language of the NPRM regarding that material.

Change to Labor Rate Estimate

After we issued the proposed AD, we reviewed the figures we use to calculate the labor rate to do the required actions. To account for various inflationary costs in the airline industry, we find it appropriate to increase the labor rate used in these calculations from $60 per work hour to $65 per work hour. The economic impact information, below, has been revised to reflect this increase in the specified hourly labor rate.

Cost Impact

There are approximately 3,311 airplanes of the affected designs in the worldwide fleet. The FAA estimates that 1,553 airplanes of U.S. registry will be affected by this AD, that it will take between 4 work hours and 7 work hours per airplane (depending upon airplane model) to accomplish the required actions, and that the average labor rate is $65 per work hour. Based on these figures, the cost impact of the requirements of this AD on U.S. operators is estimated to be between $403,780 and $706,615, or between $260 and $455 per airplane.

The cost impact figure discussed above is based on assumptions that no operator has yet accomplished any of the requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2003-17-07 McDonnell Douglas: Amendment 39-13281. Docket 2001-NM-77-AD.

Applicability: This AD applies to the airplanes listed in Table 1 of this AD, certificated in any category. Table 1 of this AD follows:

Table 1—Applicability
McDonnell Douglas Models | As listed in
Model DC-8-11, DC-8-12, DC-8-21, DC-8-31, DC-8-32, DC-8-33, DC-8-41, DC-8-42, and DC-8-43 airplanes; DC-8-51, DC-8-52, DC-8-53, and DC-8-55 airplanes; DC-8F-54 and DC-8F-55 airplanes; DC-8-61, DC-8-62, and DC-8-63 airplanes; DC-8-61F, DC-8-62F, and DC-8-63F airplanes; DC-8-71, DC-8-72 and DC-8-73 airplanes; DC-8-71F, DC-8-72F, and DC-8-73F airplanes | Boeing Alert Service Bulletin DC8-26A042, including Appendix A, dated January 31, 2002.
Model DC-9-11, DC-9-12, DC-9-13, DC-9-14, DC-9-15, and DC-9-15F airplanes; DC-9-21 airplanes; DC-9-31, DC-9-32, DC-9-32 (VC-9C), DC-9-32F, DC-9-33F, DC-9-34, DC-9-34F, and DC-9-32F (C-9A, C-9B) airplanes; DC-9-41 airplanes; DC-9-51 airplanes; DC-9-81 (MD-81), DC-9-82 (MD-82), DC-9-83 (MD-83), and DC-9-87 (MD-87) airplanes; and MD-88 airplanes | McDonnell Douglas Alert Service Bulletin DC9-26A029, Revision 01, dated May 8, 2001.
Model DC-10-10 and DC-10-10F airplanes; DC-10-15 airplanes; DC-10-30 and DC-10-30F (KC10A and KDC-10) airplanes; DC-10-40 and DC-10-40F airplanes; MD-10-10F and MD-10-30F airplanes | McDonnell Douglas Alert Service, Bulletin DC10-26A050, dated July 31, 2000.
Model MD-11 and MD-11F airplanes | McDonnell Douglas Alert Service Bulletin MD11-26A039, Revision 01, dated November 21, 2002.
Model MD-90-30 airplanes | McDonnell Douglas Alert Service Bulletin MD90-26A005, dated July 31, 2000.

Note 1: This AD applies to each airplane identified in the preceding applicability provision, regardless of whether it has been modified, altered, or repaired in the area subject to the requirements of this AD. For airplanes that have been modified, altered, or repaired so that the performance of the requirements of this AD is affected, the owner/operator must request approval for an alternative method of compliance in accordance with paragraph (c) of this AD. The request should include an assessment of the effect of the modification, alteration, or repair on the unsafe condition addressed by this AD; and, if the unsafe condition has not been eliminated, the request should include specific proposed actions to address it.

Compliance: Required as indicated, unless accomplished previously.

To prevent failure of the engine and auxiliary power unit (APU) fire extinguishers to fire discharge cartridges, which could result in the inability to put out a fire in an engine or in the APU; accomplish the following:

Testing the Firex Electrical Circuits

(a) Within 18 months after the accumulation of 15,000 total flight hours, or within 18 months after the effective date of this AD, whichever occurs later: Test the capability of the electrical circuits of the Firex fire extinguishers for the engine and the APU, as applicable, per the applicable alert service bulletin (ASB) listed in Table 1 of this AD.

(1) For any airplane equipped with an APU: If any electrical circuit of the Firex fire extinguishers for the APU does not pass the testing, before further flight, accomplish the troubleshooting procedures specified in the applicable ASB. Dispatch with an inoperative APU is permitted for the amount of time specified in the Minimum Equipment List. Dispatch after that time is not permitted until the circuits are repaired per the Boeing Standard Wiring Practices Manual (SWPM) D6-82481.

(2) For all airplanes: If any electrical circuit of the Firex fire extinguishers for the engine does not pass the testing, before further flight, accomplish the troubleshooting procedures specified in the applicable ASB, and repair per SWPM D6-82481. Dispatch is not permitted until the circuits have been repaired.

Actions Accomplished Per Previous Issue of Service Bulletins

(b) Tests and troubleshooting procedures accomplished before the effective date of this AD per McDonnell Douglas Alert Service Bulletin DC9-26A029, dated July 27, 2000; or MD11-26A039, dated July 31, 2000; are considered acceptable for compliance with the corresponding action specified in paragraph (a) of this AD.

Alternative Methods of Compliance

(c) An alternative method of compliance or adjustment of the compliance time that provides an acceptable level of safety may be used if approved by the Manager, Los Angeles Aircraft Certification Office (ACO), FAA. Operators shall submit their requests through an appropriate FAA Principal Maintenance Inspector, who may add comments and then send it to the Manager, Los Angeles ACO.

Note 2: Information concerning the existence of approved alternative methods of compliance with this AD, if any, may be obtained from the Los Angeles ACO.

Special Flight Permits

(d) Special flight permits may be issued in accordance with sections 21.197 and 21.199 of the Federal Aviation Regulations (14 CFR 21.197 and 21.199) to operate the airplane to a location where the requirements of this AD can be accomplished.

Incorporation by Reference

(e) Unless otherwise specified in this AD, the actions shall be done in accordance with the applicable service bulletin listed in Table 2 of this AD. Table 2 follows:

Table 2.—Applicable Service Bulletins
Service Bulletin | Revision Level | Date
Boeing Alert Service Bulletin DC8-26A042, including Appendix A | Original | January 31, 2002.
McDonnell Douglas Alert Service Bulletin DC9-26A029 | Revision 01 | May 8, 2001.
McDonnell Douglas Alert Service Bulletin DC10-26A050 | Original | July 31, 2000.
McDonnell Douglas Alert Service Bulletin MD11-26A039 | Revision 01 | November 21, 2002.
McDonnell Douglas Alert Service Bulletin MD90-26A005 | Original | July 31, 2000.

This incorporation by reference was approved by the Director of the Federal Register in accordance with 5 U.S.C. 552(a) and 1 CFR part 51. Copies may be obtained from Boeing Commercial Aircraft Group, Long Beach Division, 3855 Lakewood Boulevard, Long Beach, California 90846, Attention: Data and Service Management, Dept. C1-L5A (D800-0024). Copies may be inspected at the FAA, Transport Airplane Directorate, 1601 Lind Avenue, SW., Renton, Washington; at the FAA, Los Angeles Aircraft Certification Office, 3960 Paramount Boulevard, Lakewood, California; or at the Office of the Federal Register, 800 North Capitol Street, NW., suite 700, Washington, DC.

Effective Date

(f) This amendment becomes effective on September 24, 2003.

Issued in Renton, Washington, on August 12, 2003.
Kalene C. Yanamura,
Acting Manager, Transport Airplane Directorate, Aircraft Certification Service.

[FR Doc. 03-20987 Filed 8-19-03; 8:45 am]

BILLING CODE 4910-13-P